DEPARTMENT OF ENERGY

Federal Energy Regulatory Commission

Notice

October 25, 2000.

The following notice of meeting is published pursuant to Section 3(a) of the Government in the Sunshine Act (Pub. L. No. 94-409), 5 U.S.C. 552b:

AGENCY HOLDING MEETING: Federal Energy Regulatory Commission.

DATE AND TIME: November 1, 2000, 9 am

PLACE: Room 2C, 888 First Street, NE., Washington, DC 20426.

STATUS: Open.

MATTERS TO BE CONSIDERED: Docket No. EL00-95-000, San Diego Gas & Electric Company, v. Sellers of Energy and Ancillary Services Into Markets Operated by the California Independent System Operator and the California Power Exchange; Docket No. EL00-98-000, Investigation of Practices of the California Independent System Operator and the California Power Exchange; Docket No. EL00-107-000, Public Meeting in San Diego, California; Docket No. ER00-3461-000, California Power Exchange Corporation; Docket No. ER00-3673-000, California Independent System Operator Corporation.

CONTACT PERSON FOR MORE INFORMATION: David P. Boergers, Secretary, Telephone (202) 208-0400.

David P. Boergers,
Secretary.

[FR Doc. 00-27865 Filed 10-26-00; 10:51 am]

BILLING CODE 6717-01-P